NATIONAL SCIENCE FOUNDATION

Advisory Committee Mathematical and Physical Sciences; Notice of Meeting

In accordance with Federal Advisory Committee Act (Pub. L. 92-463, as amended), the National Science Foundation announces the following meeting:

Name: Advisory Committee Mathematical and Physical Sciences (#66).

Date/Time: November 4, 2009 2 p.m.-4 p.m., November 5, 2009 8 a.m.-6 p.m., November 6, 2009 8 a.m.-3 p.m.

Place: National Science Foundation, 4201 Wilson Boulevard, Arlington, VA 22230. November 5, Room 1005, November 6 & 7, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Briefing to new members about NSF and Directorate (11/4). Update on current status of Directorate. Reports from liaisons with other Advisory Committees. Meeting of MPSAC with Divisions within MPS Directorate. Discussion of MPS Long-term Planning Areas.

Summary Minutes: May be obtained from the contact person listed above.

Dated: October 9, 2009.
Susanne E. Bolton,
Committee Management Officer.

[FR Doc. E9-24743 Filed 10-14-09; 8:45 am]

BILLING CODE 7555-01-P